DEPARTMENT OF THE TREASURY

Internal Revenue Service

Privacy Act of 1974, as Amended; System of Records

AGENCY: Internal Revenue Service, Treasury.

ACTION: Notice of proposed new Privacy Act system of records.

SUMMARY: In accordance with the requirements of the Privacy Act of 1974, as amended, 5 U.S.C. 552a, the Internal Revenue Service (IRS), Department of the Treasury, gives notice of a proposed Internal Revenue-wide system of records, Treasury/IRS 35.001-Reasonable Accommodation Request Records.

DATES: Comments must be received no later than November 4, 2004. The proposed system of records will be effective November 15, 2004, unless the IRS receives comments that would result in a contrary determination.

ADDRESSES: Comments should be sent to Chief, EEO and Diversity, Internal Revenue Service, Room 2422, 1111 Constitution Avenue, NW., Washington, DC 20224. Comments will be made available for inspection and copying in the IRS Freedom of Information Reading Room. An appointment for inspecting the comments can be made by contacting the library at (202) 622-5164.

FOR FURTHER INFORMATION CONTACT: Pat Mance or Teresa A. Bonham, National Headquarters EEO and Diversity Office, Internal Revenue Service, Department of the Treasury, Room 2422, 1111 Constitution Avenue, NW., Washington, DC 20224. Telephone number (202) 622-5410 or (202) 622-6786 (TDD).

SUPPLEMENTARY INFORMATION: The Internal Revenue Service (IRS) gives notice of a proposed new system of records entitled “Treasury/IRS 35.001-Reasonable Accommodation Request Records” that is subject to the Privacy Act of 1974. The IRS is establishing the system of records to facilitate the provision of reasonable accommodation by establishing procedures and a form for use in requesting such reasonable accommodation, as well as providing a record that the request was submitted. The request form initiates the agency's reasonable accommodation procedures and the system of records serves as the agency's record of the administrative events pertaining to the approval or disapproval of the requested accommodation. In implementing the procedures, a new “Reasonable Accommodation Request Form” will be implemented Servicewide.

The new system of records report, as required by 5 U.S.C. 552a(r) of the Privacy Act, has been submitted to the Committee on Government Reform of the House of Representatives, the Committee on Governmental Affairs of the Senate, and the Office of Management and Budget, pursuant to Appendix I to OMB Circular A-130, “Federal Agency Responsibilities for Maintaining Records About Individuals,” dated November 30, 2000.

The proposed new system of records, entitled “Treasury/IRS 35.001-Reasonable Accommodation Request Records,” is published in its entirety below.

Dated: September 17, 2004.
Arnold I. Havens,
General Counsel.

TREASURY/IRS 35.001

SYSTEM NAME:

Reasonable Accommodation Request Records.

SYSTEM LOCATION:

National Headquarters, Chief Counsel, and Business Units (Agency-Wide Shared Services, Appeals, Modernization & Information Technology Services (MITS), Taxpayer Advocate Service, Communications and Liaison, Criminal Investigation, Wage and Investment, Small Business/Self Employed, Large and Mid-sized Business, and Tax Exempt and Governmental Entities (TE/GE)). See “system managers and addresses” for location.

CATEGORIES OF INDIVIDUALS COVERED BY THE SYSTEM:

Applicants and current and former Internal Revenue Service employees with disabilities who request reasonable accommodation.

CATEGORIES OF RECORDS IN THE SYSTEM:

Employee's or applicant's name, occupational series and grade, operating division/function, office location and address, office telephone number, disability or medical condition, reasonable accommodation (RA) requested, explanation of how RA would assist the applicant in the application process and the employee in performing his/her job, deciding official's name and title, deciding official's telephone number, essential duties of the position, information relating to an individual's capability to satisfactorily perform the duties of the position he/she is either applying for or presently holds, relevant medical information, estimated cost of accommodation, action by deciding official, signature of employee/applicant, signature of the deciding official, signature of health care practitioner, social worker, or rehabilitation counselor, medical documentation and supporting documents relating to reasonable accommodation.

AUTHORITY:

Title VII of the Civil Rights Act of 1964, as amended; Civil Rights Act of 1991; The Rehabilitation Act of 1973, 29 U.S.C. 701 et seq., as amended; The Americans with Disabilities Act of 1990, 42 U.S.C. 12101 et seq. (ADA); Executive Order 13164, Requiring Federal Agencies to Establish Procedures to Facilitate the Provision of Reasonable Accommodation (July 26, 2000).

PURPOSE:

The purpose of the system is to implement uniform procedures to administer reasonable accommodation requests.

ROUTINE USES OF RECORDS MAINTAINED IN THE SYSTEM, INCLUDING CATEGORIES OF USERS AND THE PURPOSES OF SUCH USE:

These records may be used:

(1) To disclose pertinent information to appropriate Federal, State, local, or foreign agencies responsible for investigating or prosecuting the violations of, or for enforcing or implementing, a statute, rule, regulation, order, or license, where the disclosing agency becomes aware of a potential violation of civil or criminal law or regulations.

(2) To disclose information to a Federal, State, or local agency, maintaining civil, criminal or other relevant enforcement information or other pertinent information, which has requested information relevant to or necessary to the requesting agency's or the bureau's hiring or retention of an individual, or issuance of a security clearance, license, contract, grant or other benefit.

(3) To provide information to the Department of Justice for the purpose of litigating an action or seeking legal advice. Disclosure may be made during judicial processes.

(4) To disclose information in a proceeding before a court, adjudicative body, or other administrative body before which the agency is authorized to appear when (a) the agency, (b) any employee of the agency in his or her official capacity, (c) any employee of the agency in his or her individual capacity where the Department of Justice or the agency has agreed to represent the employee, or (d) the United States, when the agency determines that litigation is likely to affect the agency, is a party to litigation or has an interest in such litigation, and the use of such records by the agency is deemed to be relevant and necessary to the litigation or administrative proceeding and not otherwise privileged.

(5) To provide information to officials of labor organizations recognized under 5 U.S.C. chapter 71 when relevant and necessary to their duties of exclusive representation.

(6) To provide information to third parties during the course of an investigation to the extent necessary to obtain information.

(7) To disclose information to the news media and the public, in accordance with guidelines contained in 28 CFR 50.2 in the same manner as permitted for Department of Justice officials, unless release would constitute an unwarranted invasion of personal privacy.

(8) To disclose information to a contractor to the extent necessary for the performance of a contract.

(9) To disclose information to an arbitrator, mediator, or similar person, and to the parties, in the context of alternative dispute resolution, to the extent relevant and necessary to permit the arbitrator, mediator, or similar person to resolve the matters presented, including asserted privileges.

(10) To disclose information to the Merit Systems Protection Board and the Office of Special Counsel in personnel, discrimination, and labor management matters when relevant and necessary to their duties.

(11) To disclose information to foreign governments in accordance with formal or informal international agreements when necessary to respond to a request for reasonable accommodation.

(12) To disclose information to the Office of Personnel Management and/or to the Equal Employment Opportunity Commission in personnel, discrimination, and labor management matters when relevant and necessary to their duties.

POLICIES AND PRACTICES FOR STORING, RETRIEVING, ACCESSING, RETAINING, AND DISPOSING OF RECORDS IN THE SYSTEM:

STORAGE:

Paper and electronic records.

RETRIEVABILITY:

Date of reasonable accommodation request, employee/applicant for employment's name, record number, and Business Unit.

SAFEGUARDS:

Access controls will not be less than those provided for by the Automated Information System Security Handbook, IRM 2(10)00, and the Manager's Security Handbook, IRM 1(16)12.

RETENTION AND DISPOSAL:

Records are maintained in accordance with Record Disposition Handbooks, IRM 1(15)59.1 through 1(15)59.32. Records related to specific individuals are to be maintained for the duration of employment. Aggregate data used to track the agency's performance are to be maintained for three years.

SYSTEMS MANAGER(S) AND ADDRESS:

National Headquarters, Attn: Chief, EEO and Diversity, N:EEO, Room 2422/IR, 1111 Constitution Avenue, NW., Washington, DC 20224.

Chief Counsel, Attn: Director, EEO and Diversity Office, Suite 500, 950 L'Enfant Plaza, SW., Washington, DC 20024.

Business Units:

Agency-Wide Shared Services, Room 7554/IR; Communications and Liaison, Room 7230/IR; Taxpayer Advocate Service, Room 1314/IR; Criminal Investigation, Room 2242/IR; Attn: Director, EEO and Diversity Office, 1111 Constitution Avenue, NW., Washington, DC 20224.

Appeals, Attn: Director, EEO and Diversity Office, FCB, Suite 4200 E, 1099 14th Street, NW., Washington, DC 20005.

MITS, Attn: Director, EEO and Diversity Office, 5000 Ellin Road, B8-157, Lanham, MD 20706.

Small Business/Self Employed, Attn: Director, EEO and Diversity Office, 5000 Ellin Road, C3-275, Lanham, MD 20706.

Large and Mid-sized Business, Attn: Director, EEO and Diversity Office, 801 9th Street, Mint Building, M3-177, Washington, DC 20001.

TE/GE, Attn: Director, EEO and Diversity Office, 4050 Alpha Road, MS 1120, Dallas, TX 75244.

Wage and Investment Division, Attn: Director, EEO and Diversity, 401 W. Peachtree Street, Room 1619, Atlanta, GA 30365.

NOTIFICATION PROCEDURES:

Individuals seeking access to any record contained in this system of records pertaining to themselves or seeking to contest its contents may inquire in accordance with instructions appearing in 31 CFR part 1, subpart C, Appendix B. Inquiries should be addressed as in “Record Access Procedures” below.

RECORD ACCESS PROCEDURES:

Individuals seeking access to any record contained in this system of records, or seeking to contest its content, may inquire in accordance with instructions appearing at 31 CFR part 1, subpart C, Appendix B. Inquiries should be addressed to the Chief, EEO and Diversity, Chief Counsel, or Business Units (Appeals, Modernization & Information Technology Services, Taxpayer Advocate Service, Communications and Liaison, Criminal Investigation, Wage and Investment, Small Business/Self Employed, Large and Mid-sized Business, and Tax Exempt and Governmental Entities) Directors, EEO and Diversity, servicing the area in which the individual resides. (See “System Manager(s) and Address” for location)

CONTESTING RECORD PROCEDURES:

See “Notification Procedure” above.

RECORD SOURCE CATEGORIES:

Information given by an individual requesting accommodation(s), input from individual's manager, documentation from individual's medical practitioner, agency medical representative, contractors or offices relating to the issuance of accommodation(s).

EXEMPTIONS:

None.

[FR Doc. 04-22306 Filed 10-4-04; 8:45 am]

BILLING CODE 4830-01-P